DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Persistent Effects of Treatment Studies (PETS)—(OMB No. 0930-0202, extension)—SAMHSA's Center for Substance Abuse Treatment (CSAT) will request an extension of OMB approval to allow for completion of data collection in two studies being conducted under the PETS program. CSAT has developed PETS as a family of coordinated studies that evaluates the outcomes of drug and alcohol treatment received through a wide range of publicly funded programs. Populations being studied are diverse in the nature and severity of their substance abuse and in their personal characteristics and circumstances. The conceptual underpinning of the PETS studies is a recognition that substance abuse disorders, while variable in their manifestations, are often chronic and prone to relapse. PETS focuses on the longitudinal course of substance abuse and treatment. While most previous outcome studies in the field have examined changes taking place for only several months after a particular treatment episode, PETS looks at outcomes over a longer time period of three years or more. In the context of the client's life history, careful attention has been given to the stage in his or her experience of substance abuse and treatment to what has preceded their current treatment episode, and to any sequence of aftercare, relapse, and subsequent treatment that may follow.

The PETS Chicago study continues data collection activities initiated under a grant to local investigators as part of CSAT's Target Cities project. This study will collect two- to six-year treatment followup data on a sample of clients originally assessed for treatment services at any of 22 service delivery units on Chicago's West Side.

The PETS Longer-term Adolescent Study builds upon CSAT's adolescent substance abuse treatment outcome studies in the Adolescent Treatment Models (ATM) and Cannabis Youth Treatment (CYT) grant programs. This study includes all four CYT sites and three first-round ATM sites, and will collect followup interviews for as long as 42 months after admission to treatment.

CSAT is conducting these studies in order to develop a better understanding of the longer-term outcomes for adults and adolescents receiving substance abuse treatment and factors that influence these outcomes. The information will be used to refine treatment approaches for these populations. The tables that follow summarize the burden for the two-year period of data collection for which approval will be sought.

Adult study | Number of respondents: 60-month interview | Number of respondents: 72-mo. interview | Responses/ respondent | Burden/ response (in hours) | Total burden (in hours)
Chicago | 706 | 550 | 1 | 1.5 | 1,884

Adolescent Studies | Number of Respondents: 24-month | Number of Respondents: 30-month | Number of Respondents: 42-month | Responses/Respondent | Burden/ Response (in hours) | Total Burden (in hours)
7 site total | 30 | 183 | 993 | 1 | 1.85 | 2,231

Send comments to Nancy Pearce, SAMHSA Reports Clearance Officer, Room 16-105, Parklawn Building, 5600 Fishers Lane, Rockville, MD 20857. Written comments should be received within 60 days of this notice.

Dated: February 28, 2002.
Richard Kopanda,
Executive Officer, SAMHSA.

[FR Doc. 02-5281 Filed 3-5-02; 8:45 am]

BILLING CODE 4162-20-P